DEPARTMENT OF ENERGY

Formal Recognition of High-Performance Green Building Partnership Consortia

AGENCY: U.S. Department of Energy (DOE), Office of Energy Efficiency and Renewable Energy.

ACTION: Request for submission of qualifications; request for comment.

SUMMARY: The Building Technologies Program (BTP), within DOE's Office of Energy Efficiency and Renewable Energy, is seeking submissions from qualified groups for formal recognition as High-Performance Green Building Partnership Consortia under section 421 of the Energy Independence and Security Act of 2007 (EISA), Public Law No. 110-140. Groups seeking recognition will need to satisfy the representation qualifications as stated in paragraph (f) of that section. DOE's recognition of a group as a consortium will not guarantee any Federal funding. Further, DOE is requesting comment on possible factors for consideration in future competitive selection of an entity as a supporting consortia and potential research, development, and deployment partnerships.

DATES: Letters from groups seeking recognition must be received at the address below no later than February 2, 2009. Comments on potential future competitive selections must be received at the address below no later than February 2, 2009.

FOR FURTHER INFORMATION CONTACT: Drury B. Crawley, Commercial Buildings Team Lead, U.S. Department of Energy, Office of Building Technologies, 1000 Independence Avenue, SW., Washington, DC 20585-0121. E-mail: drury.crawley@ee.doe.gov; telephone: (202) 586-2344.

SUPPLEMENTARY INFORMATION:

Background

The 4.7 million commercial buildings in the Unites States have a collective footprint of about 74 billion square feet. The public and private sectors annually spend $286 billion on new capital construction and $177 billion for building renovation. Commercial buildings' energy demand, including lighting, heating, cooling, water heating, ventilation, and electronics, consume 18 percent of the Nation's primary energy, and 35 percent of its electricity. Commercial buildings in the United States consume 18 quads ¹ annually—a total annual “utility bill” of more than $155 billion.

¹ Quad is a quadrillion BTU and equals 10¹⁵ BTU. See the 2007 Buildings Energy Data Book, Chapter 6: Quad Equivalents, internet link at: http://buildingsdatabook.eren.doe.gov/?id=view_book&c=6.

Considering construction, renovation, and energy expenditures, Federal, State, and local governments and individuals invest over half a trillion dollars per year in the commercial sector of the built environment.

Energy Independence and Security Act of 2007

Sections 421, 422, and 423 of the Energy Independence and Security Act of 2007 address the development of commercial high-performance green buildings. (42. U.S.C. 17081, 17082 and 17083) Section 421 of EISA directs the Secretary of Energy to appoint a Director of Commercial High-Performance Green Buildings (Commercial Director). (42 U.S.C. 17081(a)) One of the duties of the Commercial Director is to formally recognize one or more groups that qualify as High-Performance Green Building Partnership Consortia (“Partnership Consortia”), which then are to be consulted in developing a report to Congress. (42 U.S.C. 17081(f)(1) and (g)) Section 422 establishes an initiative to develop and disseminate technologies, practices, and policies for the development and establishment of net-zero energy commercial buildings, with the goal of all commercial buildings being net-zero energy commercial buildings by 2050. (42 U.S.C. 17082(c)) The section 422 initiative is to be carried out in conjunction with a competitively selected High Performance Green Building Consortium (“Supporting Consortium”). (42 U.S.C. 17082(d)) Additionally, the section 422 initiative may include cost-shared research, development, and deployment programs to carry out the objectives of the initiative. (42 U.S.C. 17082(d)) Section 423 of EISA outlines a public outreach program for supporting the Net-Zero Energy Commercial Building Initiative. (42 U.S.C. 17083)

Commercial Building Initiative

DOE announced its “Net-Zero Energy Commercial Building Initiative” (CBI) on August 5, 2008.² The CBI announcement designated the Building Technologies Program (BTP) Manager as the Director of the High Performance Green Commercial Building Office, and indicated that the CBI activities will be carried out by the BTP program. The CBI is a multi-faceted effort designed to achieve the goals set forth in EISA section 422(c) and the public outreach activities in Section 423. Section 422(c) establishes as goals of the CBI the development and dissemination of technologies, practices, and policies for the development and establishment of net-zero energy commercial buildings for:

² While section 422 of EISA uses the term “Zero Net Energy” in describing the initiative, DOE has historically used the term “Net-Zero Energy.”

(1) Any commercial building constructed in the United States by 2030;

(2) 50 percent of the commercial building stock of the United States by 2040; and

(3) All commercial building in the United States by 2050.

(42 U.S.C. 17082(c)(1)-(3))

The CBI is designed to overcome the technical challenges, market barriers and institutional constraints inhibiting rapid and broad adoption of technologies, tools, processes and practices required to achieve net-zero energy performance levels in commercial buildings. To the extent resources are made available, DOE's CBI will engage in cost-shared research, development, demonstration activities, engaging and leveraging the capabilities in the private sector through national energy alliances, working with national accounts with significant building portfolios, through partnerships with standards and code setting bodies, as well as with state and local governments.

Another component of the CBI is the DOE's National Laboratory Collaborative on Building Technologies, a joint project of BTP and five National Laboratories. The Collaborative empowers the labs and DOE to work closely together to set priorities for research and combine capabilities in working towards greater energy efficiency in support of CBI. DOE anticipates bringing the strengths of its National Laboratories to bear to help solve technical challenges, and to assist in accomplishing the broad goals of CBI.

The CBI will include and align existing DOE programs to advance net-zero energy buildings. In February 2008 DOE launched the Retailer Energy Alliance, an independent association of retailers that share and develop energy-saving ideas and technologies. This Alliance is a flagship activity of the CBI. Under the CBI, the Department plans to launch several more energy alliances in the commercial real estate and institutional sectors over the next year.

This Federal Register notice requests submissions from groups seeking to be formally recognized as Partnership Consortia under section 421 of EISA.

Partnership Consortia

DOE has placed a high priority on reducing the continued upward trend in energy use in commercial buildings. To that end, DOE plans to formally recognize Partnership Consortia that represent the public and private sectors in public-private partnerships to promote high-performance green buildings and net-zero energy commercial buildings.

DOE will obtain information on the current status of the industry through meetings with the formally recognized Partnership Consortia. The information gathered from the Partnership Consortia will be considered in developing the biennial report to Congress required under section 421(g) of EISA. (42 U.S.C. 17081(g)) The report required under section 421(g) of EISA is a summary of the status of the commercial building initiative and the status of related State and local level activities. The report will not be the basis for DOE action.

DOE will post the name, contact information, and membership of each formally recognized partnership consortium on its website for reference. No specific collaborative activities beyond those described above between the Commercial Director and the Partnership Consortia are planned at this time. DOE's recognition of a group as a Partnership Consortium will not guarantee any Federal funding.

Requirements for Formal Recognition of a Partnership Consortium

Formal recognition of a group as a partnership consortium requires that the group satisfy the representation qualifications in section 421(f)(2) of EISA as listed below. In addition to the representative-specific criteria listed, each of the entities seeking recognition as a Partnership Consortium should demonstrate the availability of funds to participate under section 421 of EISA as section 421 does not authorize appropriations for recognized Partnership Consortia.

Section 421(f)(2) requires that a group seeking recognition as a Partnership Consortium must include representation from each of the areas further described below. Note that representation qualifications that deal with “high-performance green buildings” should be considered in the context of the statutory definition of that term.³

³ The term ”high-performance green building” means a high-performance building that, during its life-cycle, as compared with similar buildings (as measured by Commercial Buildings Energy Consumption Survey or Residential Energy Consumption Survey data from the Energy Information Agency)—

(A) Reduces energy, water, and material resource use;

(B) Improves indoor environmental quality, including reducing indoor pollution, improving thermal comfort, and improving lighting and acoustic environments that affect occupant health and productivity;

(C) Reduces negative impacts on the environment throughout the life-cycle of the building, including air and water pollution and waste generation;

(D) Increases the use of environmentally preferable products, including biobased, recycled content, and nontoxic products with lower life-cycle impacts;

(E) Increases reuse and recycling opportunities;

(F) Integrates systems in the building;

(G) Reduces the environmental and energy impacts of transportation through building location and site design that support a full range of transportation choices for users of the building; and

(H) Considers indoor and outdoor effects of the building on human health and the environment, including—

(i) Improvements in worker productivity;

(ii) The life-cycle impacts of building materials and operations; and

(iii) Other factors that the Federal Director or the Commercial Director consider to be appropriate.

(42 U.S.C. 17061(13))

(A) Design professions and national associations of architects and engineers. At a minimum, the represented design professions should be licensed/certified individuals and/or firms, and represented national architectural and engineering associations should represent architectural and engineering disciplines necessary for the design of commercial high-performance green buildings, including architects, mechanical engineers (inclusive of heating, ventilation and air-conditioning specialists), electrical engineers, and civil engineers. Compliance with the design professional criterion can be demonstrated through licenses and certifications; and resumes highlighting experience with commercial high-performance green building projects. Compliance with the national association criterion can be demonstrated through association leadership and/or participation in the promotion and development of commercial high-performance green building design inclusive of public position papers, member activities, training course offerings, newsletters, etc., covering the last three years; and nationwide membership representing architects and engineers.

(B) The development, construction, financial, and real estate industries. Representation should include one or more companies/firms with demonstrated experience in development, construction, finance, and real estate. Each participating firm should demonstrate its experience in providing development, construction, financing, and/or related real estate services for commercial high-performance green buildings. Participating companies/firms combined should have experience providing services on a nationwide basis.

(C) Building owners and operators from the public and private sectors. Represented private sector building owners and operators should include one or more companies/firms that own and operate commercial high-performance green buildings. The private sector building portfolio should consist of buildings that are geographically distributed nationwide. Represented public sector building owners and operators should include by one or more local/municipal, State, or Federal government entities that own and operate commercial high-performance green buildings. Nationwide geographic distribution of the public sector buildings is desired, and may be achieved through the participation of multiple public sector entities.

(D) Academic and research organizations. ⁴ A recognized consortium will include representation of academic organizations that (when combined) offer curricula and perform research in commercial high-performance green building design, development, construction, and operations fields. Participating research organizations should demonstrate research accomplishments and agendas supporting commercial high-performance green buildings. Each represented organization should demonstrate the research accomplishments for participating faculty and staff in the area of commercial high-performance green buildings. Consortium representatives should provide resumes, along with a summary of topical publications and presentations inclusive of articles, journals, and conference proceedings, etc., with an emphasis on commercial high-performance green buildings.

⁴ Section 421(f)(2)(D) states that representation of academic and research organizations must include at least “one national laboratory with extensive commercial building expertise”. (42 U.S.C. 17081(f)(2)(D)) DOE is not specifying a consortium's representation include at least one national laboratory as the national laboratories will be involved through DOE.

(E) Building code agencies and organizations, including a model energy code setting organization. Representation of building code agencies and organizations should include organizations that develop and are responsible for the American National Standards Institute (ANSI) national standards, and national model code writing organizations that recognize ANSI standards and write building-related ANSI approved standards.

(F) Independent high-performance green building associations or councils. Represented associations/councils should be national organizations that address efficient resource use in the areas of developing, promoting, and deploying commercial high-performance green buildings.

(G), (H), and (K) Experts in indoor air quality and environmental factors, intelligent buildings and integrated building information systems, and the public transportation industry. Consortium representatives for each of the required expert areas should provide resumes, along with a summary of topical publications and presentations inclusive of articles, journals, and conference proceedings, etc., with an emphasis on commercial high-performance green buildings.

(I) Utility energy efficiency programs. Consortia representatives should demonstrate experience in designing and administering successful regional and/or nationwide energy efficiency programs targeting commercial buildings, with emphasis on high-performance green buildings.

(J) Manufacturers and providers of equipment and techniques used in high-performance green buildings. A partnership consortium should represent manufacturers that research, design, and manufacture equipment for commercial high-performance green buildings, and organizations that optimize building energy performance and address building sustainability.

(L) Non-governmental energy efficiency organizations. Represented non-governmental energy-efficiency organizations should demonstrate experience with commercial high-performance green building energy efficiency initiatives at the regional and national levels inclusive of public awareness campaigns, training courses, and recognized partnership programs offering technical assistance.

Application Instructions

Groups seeking recognition as Partnership Consortia must provide a letter of identification to the contact provided in the FOR FURTHER INFORMATION CONTACT heading section of this notice. The letter should include contact information for the group. DOE will then follow-up individually with each group that has submitted a letter to confirm, as appropriate, that the group meets the representation qualifications in section 421(f)(2). Letters must be submitted within 60 days of the date of this publication.

Future CBI Activities

Section 422 (b)(1) of EISA further directs DOE to conduct a “Zero Net Energy Commercial Building Initiative”, and, under section 422(b)(2), to competitively select a Supporting Consortium to assist DOE in developing and carrying out the initiative. (42 U.S.C. 17082(b)(1) and (2)) The Supporting Consortium is distinct from the Partnership Consortia. A future competitive solicitation will be used to select the Supporting Consortium and will not restrict eligibility for selection to Partnership Consortia that apply for recognition under this Federal Register Notice. DOE is considering the use of the following factors as part of the competitive selection for the Supporting Consortium:

• Breadth of representation of the commercial building industry.

• Plan for managing the membership of the consortium.

• Demonstrated experience of the organization in organizing and managing technical meetings and program reviews, and

• Ability of organization to provide technical expertise for project and technical reviews.

Additionally, DOE is considering a solicitation, under section 422(d) of EISA, for cost-shared RD&D partnerships which may include:

• An agreement to build at least one new commercial building prototype at 50 percent energy savings and retrofit at least one existing commercial building to achieve 30 percent savings. (New commercial building targets will increase to 70 percent for 2015 and net-zero for 2018.)

• Cost-shared testing, evaluation, and demonstration of technologies and approaches.

• Carrying out pilot programs and demonstration projects to evaluate replicable approaches.

DOE requests comment on the initial criteria being considered for the competitive selection of the Supporting Consortium and the cost-shared RD&D partnerships. Comments should be sent to the contact identified in the FOR FURTHER INFORMATION CONTACT section.

Issued in Washington, DC, on November 14, 2008.
John F. Mizroch,
Acting Assistant Secretary, Energy Efficiency and Renewable Energy.

[FR Doc. E8-28564 Filed 12-1-08; 8:45 am]

BILLING CODE 6450-01-P